TENNESSEE VALLEY AUTHORITY

Agency Information Collection Activities: Submission for OMB Review; Comment Request

AGENCY: Tennessee Valley Authority (TVA).

ACTION: 30-Day notice of submission of information collection approval request to OMB.

SUMMARY: Tennessee Valley Authority (TVA) provides notice of submission of this information clearance request (ICR) to the Office of Management and Budget (OMB) for review and approval in accordance with the Paperwork Reduction Act of 1995 (PRA). The general public and other federal agencies are invited to comment. TVA previously published a 60-day notice of the proposed information collection for public review (December 10, 2021) and no comments were received.

DATES: The OMB will consider all written comments received on or before March 4, 2022.

ADDRESSES: Written comments for the proposed information collection should be sent within 30 days of publication of this notice to www.reginfo.gov/public/do/PRAMain. Find this particular information collection by selecting “Currently under 30-day Review—Open for Public Comments” or by using the search function.

SUPPLEMENTARY INFORMATION: Type of Request: New collection.

Title of Information Collection: Distribution Technology Capability Assessment.

Frequency of Use: Every 2 years.

Type of Affected Public: State, local, and tribal governments; small businesses; non-profit organizations.

Small Businesses or Organizations Affected: Yes.

Federal Budget Functional Category Code: 455.

Estimated Number of Annual Responses: 153.

Estimated Total Annual Burden Hours: 306.

Estimated Average Burden Hours per Response: 2.0.

Need For and Use of Information: As the Balancing Authority of the region, TVA must ensure the electrical grid is reliable. With the growth of Distributed Energy Resources (DER) on the distribution system, TVA and the Local Power Companies (LPCs) must work in tighter coordination to ensure the DER generation does not impact the reliability of the bulk electric system. To support this goal, TVA must understand the current distribution capabilities of the LPCs. Examples of capabilities include but are not limited to customer analytics, advanced asset management, advanced AMI, automated switching, DER monitoring & control, grid planning and voltage optimization. To ease access and completion, information will be submitted online. Once collected, the information will be reviewed by TVA staff and consultants to determine each LPC's state of and plan for system modernization and will inform strategic investment roadmaps and implementation plans that are being developed as part of the Regional Grid Transformation initiative. Summary level information will be provided to the participating LPCs to allow them to gauge where they stand in terms of their technical capabilities compared to their peers which could help give them useful information that informs their individual priorities and investment plans.

Rebecca L. Coffey,
Agency Records Officer.

[FR Doc. 2022-02125 Filed 2-1-22; 8:45 am]

BILLING CODE 8120-08-P